DEPARTMENT OF THE INTERIOR

Bureau of Land Management

[AA-9014-A, AA-9014-A2; AK-965-1410-KC-P]

Alaska Native Claims Selection

AGENCY: Bureau of Land Management, Interior.

ACTION: Notice of decision approving lands for conveyance.

SUMMARY: As required by 43 CFR 2650.7(d), notice is hereby given that an appealable decision approving lands for conveyance pursuant to the Alaska Native Claims Settlement Act will be issued to Paimiut Corporation. The lands are in the vicinity of Paimiut, Alaska, and are located in:

Seward Meridian, Alaska

T. 18 N., R. 89 W.,

Secs. 1 to 5, inclusive;

Secs. 7 to 12, inclusive.

Containing approximately 4,551 acres.

T. 19 N., R. 89 W.,

Secs. 25 to 28, inclusive;

Secs. 30 to 36, inclusive.

Containing approximately 4,619 acres.

Aggregating approximately 9,170 acres.

These lands lie entirely within Clarence Rhode National Wildlife Range, established January 20, 1969. The subsurface estate will be reserved to the United States in the conveyance to Paimiut Corporation. Notice of the decision will also be published four times in the Tundra Drums.

DATES: The time limits for filing an appeal are:

1. Any party claiming a property interest which is adversely affected by the decision shall have until February 26, 2009 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Robert Childers,
Land Law Examiner, Land Transfer Adjudication II.

[FR Doc. E9-1695 Filed 1-26-09; 8:45 am]

BILLING CODE 4310-JA-P